DEPARTMENT OF ENERGY

Federal Energy Regulatory Commission

Combined Notice of Filings

Take notice that the Commission has received the following Natural Gas & Oil Pipeline Rate and Refund Report filings:

Filings Instituting Proceedings

Docket Numbers: RP23-844-000.

Applicants: El Paso Natural Gas Company, L.L.C.

Description: § 4(d) Rate Filing: Negotiated Rate Agreement Update (SRP August 2023) to be effective 8/1/2023.

Filed Date: 6/26/23.

Accession Number: 20230626-5112.

Comment Date: 5 p.m. ET 7/10/23.

Docket Numbers: RP23-845-000.

Applicants: Iroquois Gas Transmission System, L.P.

Description: § 4(d) Rate Filing: 6.27.23 Negotiated Rates—Mercuria Energy America, LLC R-7540-02 to be effective 7/1/2023.

Filed Date: 6/27/23.

Accession Number: 20230627-5003.

Comment Date: 5 p.m. ET 7/10/23.

Docket Numbers: RP23-846-000.

Applicants: El Paso Natural Gas Company, L.L.C.

Description: § 4(d) Rate Filing: Negotiated Rate Agreements Update (Pioneer 2023) to be effective 7/1/2023.

Filed Date: 6/27/23.

Accession Number: 20230627-5051.

Comment Date: 5 p.m. ET 7/10/23.

Docket Numbers: RP23-847-000.

Applicants: Texas Eastern Transmission, LP.

Description: § 4(d) Rate Filing: Negotiated Rates—DTE eff 7-1-23 to be effective 7/1/2023.

Filed Date: 6/27/23.

Accession Number: 20230627-5060.

Comment Date: 5 p.m. ET 7/10/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-501-000.

Applicants: ANR Pipeline Company.

Description: Refund Report: Amended Settlement Refund Report to be effective N/A.

Filed Date: 6/26/23.

Accession Number: 20230626-5057.

Comment Date: 5 p.m. ET 7/10/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 27, 2023.
Debbie-Anne A. Reese,
Deputy Secretary.

[FR Doc. 2023-14058 Filed 6-30-23; 8:45 am]

BILLING CODE 6717-01-P